DEPARTMENT OF HEALTH AND HUMAN SERVICES

Administration for Children and Families

Proposed Information Collection Activity; Evaluation of LifeSet (New Collection)

AGENCY: Office of Planning, Research, and Evaluation; Administration for Children and Families; HHS.

ACTION: Request for public comment.

SUMMARY: The Administration for Children and Families (ACF) at the U.S. Department of Health and Human Services (HHS) is proposing a new information collection activity to assess the impact and implementation of LifeSet, a program that provides services and supports to young adults ages 17 to 21 with previous child welfare involvement. Data collection efforts will include accessing administrative data from the child welfare agency, program, and other private and governmental databases; surveys of young adults (participants and those receiving services as usual); interviews and focus groups with program and child welfare agency administrators and staff; interviews and focus groups with young adult program participants; and interviews with other program stakeholders.

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written should be identified by the title of the information collection.

SUPPLEMENTARY INFORMATION: Description: The proposed information collection activity is the first phase of a larger study that intends to assess the impact and implementation of LifeSet, a program that provides services and supports to young adults ages 17 to 21 with previous child welfare involvement. The program aims to support young adults in their transition from foster care to independent living in the areas of education, employment and earnings, housing and economic well-being, social support, well-being, health and safety, and criminal involvement. It focuses on helping young adults identify and achieve their goals while developing the skills necessary for independent living.

The impact study will assess the effects of young adults' participation in LifeSet on outcomes in the primary (i.e. confirmatory) domains of education and employment, housing stability, social support, and well-being. These outcomes have been identified by the implementing agency as the main areas they expect to target for positive program impacts. In addition, the impact study will explore the effects of participation in the secondary (i.e. exploratory) domains of mental health, criminal justice system contact, intimate partner violence, and economic well-being. The study will utilize a randomized controlled design. Information collection activities will take place over three years and will include collection of administrative data from the state child welfare agency, the program developer, the local program provider agencies, the National Student Clearinghouse, unemployment insurance and employer wage records, the National Directory of New Hires, the state homelessness management information system, the state department of corrections, the state juvenile justice commission, the state court probation services division, and the state department of human services division of family development, as well as survey interviews with program participants and young adults receiving services as usual.

The implementation study will collect information through phone calls and site visits to the participating program and child welfare agency. Information collection activities include interviews and focus groups with administrators and staff from the program developer, child welfare agency, and program providers.

This evaluation is part of a larger project to help ACF build the evidence base in child welfare through rigorous evaluation of programs, practices, and policies. The activities and products from this project will contribute to evidence building in child welfare and help to determine the effectiveness of a program for youth formerly in foster care on young adult outcomes.

Respondents: Program participants, young adults receiving services as usual, agency and program administrators and staff, other program stakeholders.

Annual Burden Estimates
Instrument | Respondents | Number of respondents (total over request period) | Number of responses per respondent (total over request period) | Avg. burden per response (in hours) | Total burden (in hours) | Annual burden (in hours)
Site Visit 1 Interview Guide for Administrators | Child Welfare Agency Administrators Licensed LifeSet Experts. Provider Agency Administrators. LifeSet Developer Administrators. | 22 | 1 | 1 | 22 | 7
Site Visit 2 Interview Guide for Administrators | Child Welfare Agency Administrators Licensed LifeSet Experts. Provider Agency Administrators. LifeSet Developer Administrators. | 22 | 1 | 1 | 22 | 7
Site Visit 2 Focus Group Guide for Staff | LifeSet Specialists LifeSet Team Supervisors. | 12 | 1 | 1.5 | 18 | 6
Baseline Youth Survey | Youth Formerly in Foster Care | 600 | 1 | 0.6 | 360 | 120
Administrative data file | Agency and Program Staff | 12 | 1 | 5 | 60 | 20

Estimated Total Annual Burden Hours: 160.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 677.

Mary B. Jones,
ACF/OPRE Certifying Officer.

[FR Doc. 2021-07688 Filed 4-14-21; 8:45 am]

BILLING CODE 4184-25-P